FEDERAL MARITIME COMMISSION

Ocean Transportation Intermediary License; Applicants

Notice is hereby given that the following applicants have filed with the Federal Maritime Commission an application for license as a Non-Vessel Operating Common Carrier and Ocean Freight Forwarder—Ocean Transportation Intermediary pursuant to section 19 of the Shipping Act of 1984 as amended (46 U.S.C. app. 1718 and 46 CFR 515).

Persons knowing of any reason why the following applicants should not receive a license are requested to contact the Office of Transportation Intermediaries, Federal Maritime Commission, Washington, DC 20573.

Non-Vessel Operating Common Carrier Ocean Transportation Intermediary Applicants

Jetstream Freight Forwarding, Inc. dba Jetstream, 21804 Marine View Drive South, Suite C, Des Moines, WA 98198, Officers: Sara Barnes, Director of Operations (Qualifying Individual), Bryan Jennings, President.

JJB Trucking Service Inc., 333 N. Broad Street, Elizabeth, NJ 07201, Officer: Bertha Trimmio, President (Qualifying Individual).

Non-Vessel Operating Common Carrier and Ocean Freight Forwarder Transportation Intermediary Applicants

Full Service Logistics, Inc., 2100 Huntington Drive, Suite 7, San Marino, CA 91108, Officer: Mei Tung Tsang, C.E.O. (Qualifying Individual).

Q Follow Shipping, Inc., 815 Fairview Avenue, Bldg. #1, Fairview, NJ 07022, Officers: Timothy Cheng Liang, President (Qualifying Individual).

Northtrans Shipping Inc., 17246 S. Main Street, Gardena, CA 90248, Officers: Herbert Lo, President (Qualifying Individual), Matthew Leung, Exec. Vice President.

ECAC Incorporated, 1146 Atlantic Avenue, Brooklyn, NY 11216, Officer: Emeka J. Ukasoanya, President (Qualifying Individual).

Consolidation Shipping & Logistic, (USA) Inc., 219 Stuyvesant Avenue, Lyndhurst, NJ 07071, Officers: Edwin E. Romero, President (Qualifying Individual), Tario Mahmood, Chairman.

Ocean Freight Forwarder—Ocean Transportation Intermediary Applicant

Kraus International Shipping Co., 1400 E. Clement Street, Suite 100, Baltimore, MD 21230, Officers: Brenda A. Lang, Secretary (Qualifying Individual), Diane Kraus, President.

Dated: January 3, 2003.
Theodore A. Zook,
Assistant Secretary.

[FR Doc. 03-317 Filed 1-7-03; 8:45 am]

BILLING CODE 6730-01-P